DEPARTMENT OF HEALTH AND HUMAN SERVICES

Agency for Healthcare Research and Quality

Request for Measures of Consumers' Home Health Care Experiences

AGENCY: Agency for Healthcare Research and Quality (AHRQ), DHHS.

ACTION: Notice of request for measures.

SUMMARY: The Agency for Healthcare Research and Quality (AHRQ) is soliciting the submission of instruments or items that measure perceptions of patients and their informal caregivers regarding the quality of home health care these patients received from home health providers, health plans, other health care providers, stakeholders, vendors, researchers who include home health care as part of their research, and other interested parties. This initiative is in response to the need to develop a new CAHPs® home health care survey. The Centers for Medicare & Medicaid Services is interested in incorporating this survey as part of its Home Health Quality Initiative which is intended to empower consumers with quality of care information to make more informed decisions about their health care while also encouraging Medicare certified home health agencies to improve the quality of care they deliver to all patients regardless of payer source. The survey is likely to assess the quality of care and services provided by nurses, therapists, home heath aides, medical social workers, and home health agency administrative staff.

Based on the agency's prior consumer assessment of health care work, there are several functional areas that this instrument could assess such as: Communication; courtesy and respect; information provided and shared decision making; coordination/integration of care; time related issues (e.g., arrived and departed according to schedule, amount of time spent, visit frequency); competence: influence/control over care giver activities; unmet need issues, and customer service.

DATES: Please submit instruments and supporting information on or before October 25, 2006. AHRQ will not respond individually to submitters, but will consider all submitted instruments and publicly report the results of the review of the submissions in aggregate.

ADDRESSES: Submissions should include a brief cover letter, a copy of the instrument or items for consideration and supporting information as specified under the Submission Criteria below. Submissions may be in the form of a letter or e-mail, preferably with an electronic file as an E-mail attachment. Responses to this request should be submitted to: Charles Darby, Center for Quality Improvement and Patient Safety, Agency for Healthcare Research and Quality, 540 Gaither Road, Rockville, MD 20850, Phone: (301) 427-1324, Fax: (301) 427-1341, E-mail: charles.darby@ahrq.hhs.gov.

To facilitate handling of submissions, please include full information about the instrument developer and/or a designated contact: (a) Name, (b) title, (c) organization, (d) mailing address, (e) telephone number, (f) fax number, and (g) e-mail address. Also, please submit a copy of the instrument or items for consideration, and evidence that meets the criteria below. It is requested that citation of a peer-reviewed journal article pertaining to the instrument to include the title of the article, author(s), publication year, journal name, volume, issue, and page numbers where article appears, be included, but is not required. Submitters must also provide a statement of willingness to grant to AHRQ the right to use and authorize others to use submitted measures and their documentation as part of a CAHPS®-trademarked instrument. This final CAHPS® instrument for collecting patient perspectives on the quality of home health care and services will be made publicly available, free of charge. Electronic submissions are encouraged.

FOR FURTHER INFORMATION CONTACT: Charles Darby, at the address above.

Submission Criteria

Instruments submitted should focus on home health care or closely related care areas (e.g., home care; personal assistant services/community based care) and address areas of interest such as: communication, information provided and shared decision making, courtesy and respect, coordination/integration, time related issues (e.g., arrival an departed according to schedule, amount of time spent: visit frequency competence) influence/control over care giver activities, unmet need issues, and customer service.

Measures submitted must meet these criteria to be considered: capture the patients' experience of home health care workers and agency administrative and demonstrate a high degree of reliability and validity. Submitters' willingness to grant to AHRQ the right to use and authorize others to the instrument or item means that the CAHPS® trademark will be applied to a new instrument combining the best features of all the submissions as well as any ideas that may develop from reviewing them. This will ensure free access to the instrument, and free access to the instrument's supportive/administrative information. AHRQ, in collaboration with CAHPS grantees, and in consultation with CMS, will evaluate all submitted instruments or items. As the CAHPS instrument is constructed, one or more instruments may be selected, either in whole or in part, or items may be modified prior to testing them.

Submitters will relinquish ownership of any items that appear in the final instrument. However, item ownership will be protected during testing of the survey.

The final instruments(s) will bear the CAHPS® trademark and they will be made freely available for use by all interested parties. As a matter of quality control, there will be warnings that the CAHPS® identification may not be used if any changes are made to the instrument or the final measure set or the methodology or instructions, without review and permission of the agency.

Each submission should include the following information: the name of the instrument, domains included, language(s) the instrument is available in, evidence of cultural/cross group comparability, if any, instrument reliability (internal consistency, test-retest, etc.), validity (content, construct, criterion-related), response rates, methods and results of cognitive testing and field-testing and description of sampling strategies (including payer type) and data collection protocols, including such elements as mode of administration, use of advance letters, timing and frequencies of contacts. In addition, a list of where the instrument has been fielded should also be included in the submission. Submission of copies of existing report formats developed to disclose findings to consumers and providers is desirable, but not required. Additionally, information about existing database(s) for collecting results gathered using the instrument(s) or items submitted is helpful, but not required for submission. Evidence of the criteria should be demonstrated through submission of peer-reviewed journal article(s) or through the best evidence available at the time of submission.

SUPPLEMENTARY INFORMATION:

Background

The CAHPS program was initiated in 1995 to develop a survey and report on consumers' perspectives on the quality of their health plans. Since that time the CAHPS program, in partnership with CMS and others, has expanded its scope and developed surveys and reports regarding patient assessments of care received from individual clinicians, group practices, in-center hemodialysis services, nursing homes and hospitals. Now, CMS has asked the CAHPS team to develop a survey to obtain the consumer's perspective on home health care and services.

One of the top priorities of the Centers for Medicare & Medicaid Services is to increase the transparency in healthcare by providing quality and cost information to the public. One of the critical components missing from the current measurement set for home health agencies is information from the consumer perspective on the quality of care provided. The proposed instrument described above will address this need for useful patient assessments.

Dated: September 19, 2006.
Carolyn M. Clancy,
Director.

[FR Doc. 06-8183 Filed 9-22-06; 8:45 am]

BILLING CODE 4160-90-M